DEPARTMENT OF STATE

[Public Notice 11144]

30-Day Notice of Proposed Information Collection: Affidavit Regarding a Change of Name

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to August 26, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

• Title of Information Collection: Affidavit Regarding a Change of Name.

• OMB Control Number: 1405-0133.

• Type of Request: Revision of a Currently Approved Collection.

• Originating Office: Department of State, Bureau of Consular Affairs, Passport Services, Office of Program Management and Operational Support (CA/PPT/S/PMO/CR).

• Form Number: DS-60.

• Respondents: Individuals.

• Estimated Number of Respondents: 2,592.

• Estimated Number of Responses: 2,592.

• Average Time Per Response: 40 minutes.

• Total Estimated Burden Time: 1,728 hours.

• Frequency: On Occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Affidavit Regarding a Change of Name is submitted in conjunction with an application for a U.S. passport. It is used by Passport Services to collect information for the purpose of establishing that a passport applicant has adopted a new name without formal court proceedings or by marriage and has publicly and exclusively used the adopted name over a period of time (at least five years).

Methodology

When needed by an applicant for a passport, the Affidavit Regarding a Change of Name is either provided by the Department or downloaded from the Department's website at eforms.state.gov and completed by the affiant. It must be signed in the presence of a passport agent, passport acceptance agent, or notary public.

Zachary Parker,
Director.

[FR Doc. 2020-16145 Filed 7-24-20; 8:45 am]

BILLING CODE 4710-06-P